DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazardous Material Regulations (49 CFR part 207, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 16, 2007.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the application are available for inspection in the Records Center, Nassif Building, 400 7th Street, SW., Washington, DC or at http://dms.dot.gov.

This notice of receipt of applications for special permits is published in accordance with Part 107 of the Federal hazardous materials transportation law (49 U.S.C. 5117(b); 49 CFR 1.53(b)).

Issued in Washington, DC, on March 12, 2007.
Delmer F. Billings,
Director, Office of Hazardous Materials, Special Permits & Approvals.

Application No. | Docket No. | Applicant | Regulation(s) affected | Nature of special permit thereof
14479-N |  | Medical Waste Institute Washington, DC | 49 CFR 172.301(a); 172.301(c); 172.312(a)(2) | To authorize the use of containers marked with an alternative shipping name. (mode 1).
14480-N |  | REC Advanced Silicon Materials LLC Silver Bow, MT | 49 CFR 173.301(1)(iii)(2) | To authorize the transportation in commerce of certain DOT specification cylinders and cylinders manufactured to a foreign specification without perssure relief devices. (modes 1, 3).
14481-N |  | Transload of North America Middlesex, NJ | 49 CFR 178.518.2; 173.24; 173,240(c) | To authorize the transportation in commerce of Class 9 solid hazardous waste in non-DOT Specification in FIBCs. (mode 1).
14482-N |  | Classic Helicopters | 49 CFR 172.204(c)(3); 173.27(b)(2)(3); 175.30(a)(1) | To authorize the transportation of certain Division 1.2 explosives by cargo aircraft (helicopter). (mode 4).
14483-N |  | WEW Westerwaelder Eisenwerk Weitefeld | 49 CFR 178.276(b)(1) | To authorize the manufacture marking, sale, and use of UN T50 tanks designed and constructed in accordance with Section VIII, Division 2 of the ASME code. (modes 1, 2, 3).
14484-N |  | E Ink Corporation Cambridge, MA | 49 CFR 173.202(a), 173.202(c), 173.28(b)(2) | To authorize the manufacture, marking, sale and use of reusable stainless steel vessels for the transportation in commerce of certain Class 3 hazardous materials. (mode 1).
14485-N |  | Constellation Technology Corporation | 49 CFR Part 172 Subpart E and F; Part 174 except 174.24, Part 176 except 176.24 and Part 177 except 177.817; Sections 173.302a, 173.306(b)(4) and 175.3 | To authorize the manufacture, marking, sale and use of non-DOT specification cylinders for the transportation in commerce of certain Division 2.1 and 2.2 gases. (modes 1, 2, 3, 4, 5).

[FR Doc. 07-1271 Filed 3-15-07; 8:45 am]

BILLING CODE 4909-60-M